DEPARTMENT OF AGRICULTURE

Forest Service

Wrangell-Petersburg Resource Advisory Committee

AGENCY: Forest Service, USDA.

ACTION: Notice of meeting.

SUMMARY: The Wrangell-Petersburg Advisory Committee (RAC) has announced its next meeting. The meeting will be held via teleconference on September 20, 2007. The purpose of the meeting is to review project funding proposals pursuant to Title II, Public Law 106-393, H.R. 2389, the Secure rural Schools and Community Self-Determination Act of 2000, also called the “Payments to States Act”. Public testimony regarding the proposals will also be taken.

DATES: The meeting will be held on September 20, 2007 from 8 a.m. until 5 p.m. (or the conclusion of public testimony).

ADDRESSES: The teleconference will be hosted at the two local Forest Service offices in Wrangell, at the Wrangell Ranger District, 525 Bennett Street, and in Petersburg, at the Petersburg Ranger District, 12 North Nordic Drive.

FOR FURTHER INFORMATION CONTACT: Chris Savage, Petersburg District Ranger, P.O. Box 1328, Petersburg, AK 99833, phone (907) 772-3871, e-mail csavage@fs.fed.us; or Mark Hummel, Wrangell District Ranger, P.O. Box 51, Wrangell, AK 99929, phone (907) 874-2323, e-mail mhummel@fs.fed.us. Toll-free conference calling is available for the meeting; please call or e-mail for specific information. For further information on RAC history, operations, and the application process, a Web site is available at www.fs.fed.us/payments. Once in the Web site, follow the links to the Wrangell-Petersburg Resource Advisory Committee.

SUPPLEMENTARY INFORMATION: This meeting will focus on the review and discussion proposals received by RAC for funding under Title II of the Payments to States legislation (Pub. L. 106-393). New proposals (initial reading) may be discussed at this meeting. The committee may make recommendations for project funding at this meeting. The meeting is open to the public. Public input opportunity will be provided and individuals will have the opportunity to address the committee at that time.

Dated: August 9, 2007.
Olleke Rappe-Daniels,
Deputy Forest Supervisor.

[FR Doc. 07-4007 Filed 8-15-07; 8:45 am]

BILLING CODE 3410-11-M